SURFACE TRANSPORTATION BOARD

[Docket No. FD 36728]

New Era Railroad, LLC—Acquisition and Change in Operator Exemption—RMW Ventures, LLC

New Era Railroad, LLC (NER), a noncarrier, has filed a verified notice of exemption under 49 CFR part 1150, subpart D to acquire and operate approximately 26.46 miles of rail line owned by RMW Ventures, LLC (RMW), between milepost 117.0 in the vicinity of Curryville, Ind., and milepost 123.0 at Bluffton, Ind.; and from milepost 123.8 at Bluffton to milepost 144.26 in the vicinity of Van Buren, Ind. (the Line).¹ The verified notice states that the Line is currently operated by Wabash Central Railway, LLC (WCR), a short line controlled by RMW.

¹ On October 20, 2023, NER filed an amended verified notice withdrawing portions of the verified notice pertaining to the acquisition of incidental overhead trackage rights over approximately 0.8 miles of rail line owned by Norfolk Southern Railway Company (NSR) between milepost 123.0 (corresponding to NSR milepost 163.0) and milepost 123.8 (corresponding to NSR milepost 162.2). NER states that it will make other arrangements for interchange and operations over the NSR rail line.

According to the verified notice, NER and RMW have reached terms pursuant to which NER will acquire the Line. The verified notice states that, upon the closing of the railroad asset sale, RMW will terminate the lease agreement with WCR, and, as part of the transaction, WCR shall end its leasehold operating rights over the Line. The verified notice states that NER intends to commence common carrier operations over the Line on or after the anticipated effective date of this notice.

NER certifies that the transaction does not involve any provision that would limit future interchange with a third-party connecting carrier. NER further certifies that its projected annual revenues resulting from the transaction will not exceed $5 million and will not result in NER's becoming a Class I or Class II rail carrier. Under 49 CFR 1150.32(b), a change in operator requires that notice be given to shippers. NER states that notice of the proposed transaction has been provided to shippers on the Line.

The earliest this transaction may be consummated is November 10, 2023, the effective date of the exemption. If the verified notice contains false or misleading information, the exemption is void ab initio. Petitions to revoke the exemption under 49 U.S.C. 10502(d) may be filed at any time. The filing of a petition to revoke will not automatically stay the effectiveness of the exemption. Petitions for stay must be filed no later than November 3, 2023 (at least seven days before the exemption becomes effective).

All pleadings, referring to Docket No. FD 36728, must be filed with the Surface Transportation Board via e-filing on the Board's website or in writing addressed to 395 E Street SW, Washington, DC 20423-0001. In addition, a copy of each pleading must be served on NER's representative, Michael J. Barron, Fletcher & Sippel LLC, 29 North Wacker Drive, Suite 800, Chicago, IL 60606-3208.

According to NER, this action is categorically excluded from environmental review under 49 CFR 1105.6(c) and from historic preservation reporting requirements under 49 CFR 1105.8(b).

Board decisions and notices are available at www.stb.gov.

Decided: October 24, 2023.
By the Board, Mai T. Dinh, Director, Office of Proceedings.
Eden Besera,
Clearance Clerk.

[FR Doc. 2023-23768 Filed 10-26-23; 8:45 am]

BILLING CODE 4915-01-P